DEPARTMENT OF HOMELAND SECURITY

Coast Guard

33 CFR Part 117

[Docket No. USCG-2015-0767]

Drawbridge Operation Regulation; Hood Canal, Port Gamble, WA

AGENCY: Coast Guard, DHS.

ACTION: Notice of deviation from drawbridge regulation; extension and modification.

SUMMARY: The Coast Guard has extended and modified a temporary deviation from the operating schedule that governs the Hood Canal Floating Drawbridge across Hood Canal (Admiralty Inlet), mile 5.0, near Port Gamble, WA. The temporary deviation is now effective until 7 p.m. on October 19, 2015 and allows the bridge to open the draw span half-way, 300 feet; as opposed to all the way, which is 600 feet, with at least one hour's notice and only at or near slack tide.

DATES: The temporary deviation published in the Federal Register on August 21, 2015 (80 FR 50768), and as modified herein, is effective from September 25, 2015, until 7 p.m. on October 19, 2015.

ADDRESSES: The docket for this deviation, [USCG-2015-0767] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: On August 21, 2015 the Coast Guard published a notice of temporary deviation at 80 FR 50768 from the operating schedule that governs the Hood Canal Floating Drawbridge across Hood Canal (Admiralty Inlet), mile 5.0, near Port Gamble, WA allowing the bridge to open the draw span half-way, 300 feet; as opposed to all the way, which is 600 feet. The Coast Guard is extending the end date of the previously published temporary deviation until 7 p.m. on October 19, 2015 as additional time is necessary for the Washington State Department of Transportation to complete the replacement of the bridge's draw span anchors. The temporary deviation is also modified to require opening with at least one hour's notice and only at or near slack tide. The former clarifies that the requirement for at least one hour's notice from the normal operating schedule is still in place during the temporary deviation and the latter is necessary to ensure the bridge does not move when opened during draw span anchor replacement. All other information provided in the temporary deviation published on August 21, 2015 at 80 FR 50768 continues to apply.

Dated: September 22, 2015.
Steven M. Fischer,
Bridge Administrator, Thirteenth Coast Guard District.

[FR Doc. 2015-24363 Filed 9-24-15; 8:45 am]

BILLING CODE 9110-04-P